DEPARTMENT OF ENERGY

[OE Docket No. EA-348-B]

Application To Export Electric Energy; NextEra Energy Power Marketing, LLC

AGENCY: Office of Electricity Delivery and Energy Reliability, DOE.

ACTION: Notice of application.

SUMMARY: NextEra Energy Power Marketing, LLC (NEPM) has applied to renew its authority to transmit electric energy from the United States to Canada pursuant to section 202(e) of the Federal Power Act.

DATES: Comments, protests, or motions to intervene must be submitted on or before February 10, 2014.

ADDRESSES: Comments, protests, or motions to intervene should be addressed to: Lamont Jackson, Office of Electricity Delivery and Energy Reliability, Mail Code: OE-20, U.S. Department of Energy, 1000 Independence Avenue SW., Washington, DC 20585-0350. Because of delays in handling conventional mail, it is recommended that documents be transmitted by overnight mail, by electronic mail to Lamont.Jackson@hq.doe.gov, or by facsimile to 202-586-8008.

FOR FURTHER INFORMATION CONTACT: Lamont Jackson (Program Office) at 202-586-0808, or by email to Lamont.Jackson@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On February 11, 2009, DOE issued Order No. EA-348 to FPL Energy Power Marketing, Inc. to transmit electric energy from the United States to Canada as a power marketer for a five-year term using existing international transmission facilities. That authority expires on February 11, 2014.

On March 19, 2009, FPL Energy Power Marketing, Inc. notified DOE that, effective March 12, 2009, it changed its legal name to NextEra Energy Power Marketing, LLC. Accordingly, on March 26, 2009, DOE issued Order No. EA-348-A, in which it amended the original order by changing the name of the authorized exporter to NEPM. All other terms and conditions of Order No. EA-348 remained unchanged.

On December 20, 2013, NEPM filed an application with DOE for renewal of the export authority contained in Order No. EA-348-A for an additional five-year term. Specifically, NEPM states that it seeks renewal, as a power marketer, to export electricity through existing Canadian border facilities.

NEPM states that it does not own, operate, or control any physical assets such as electric generating or transmission facilities, and it does not have a franchised service area. The electric energy that NEPM proposes to export to Canada would be surplus energy purchased from electric utilities and other suppliers within the United States.

The existing international transmission facilities to be utilized by NEPM have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments on the NEPM application to export electric energy to Canada should be clearly marked with OE Docket No. EA-348-B. An additional copy is to be provided directly to both Marty Jo Rogers, Senior Counsel, NextEra Energy Power Marketing, LLC, 601 Travis Street, Suite 1910, Houston, TX 77002, and Gunnar Birgisson, Senior Attorney, NextEra Energy, 801 Pennsylvania Ave. NW., Washington, DC 20004. A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on January 6, 2014.
Brian Mills,
Director, Permitting and Siting, Office of Electricity Delivery and Energy Reliability.

[FR Doc. 2014-00316 Filed 1-9-14; 8:45 am]

BILLING CODE 6450-01-P